COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by the nonprofit agency employing persons who are blind or have other severe disabilities, and deletes a product and service previously furnished by such agencies.

DATES: Comments must be received on or before: August 26, 2018.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service

Service Type: Grounds Maintenance Service

Mandatory for: U.S. Air Force, Cannon Air Force Base, 110 Alison Avenue, Cannon AFB, NM

Mandatory Source(s) of Supply: CW Resources, Inc., New Britain, CT

Contracting Activity: Dept of the Air Force, FA4855 27 SOCONS LGC

Deletions

The following product and service are proposed for deletion from the Procurement List:

Product

NSN(s)—Product Name(s): 8410-00-NSH-6369—Knee Length, X Large

Mandatory Source(s) of Supply: Human Technologies Corporation, Utica, NY

Contracting Activity: AMS 31C3, Washington, DC

Service

Service Type: Ground Maintenance Service

Mandatory for: Niagara Falls International Airport: 914th Tactical Airlift Group (AFRES), Niagara Falls, NY

Mandatory Source(s) of Supply: Unknown

Contracting Activity: DEPT of the Air Force, FA7014 AFDW PK

Michael R. Jurkowski,
Business Management Specialist, Business Operations.

[FR Doc. 2018-16109 Filed 7-26-18; 8:45 am]

BILLING CODE 6353-01-P